NUCLEAR REGULATORY COMMISSION

[NRC-2016-0122]

Program-Specific Guidance About Medical Use Licenses

AGENCY: Nuclear Regulatory Commission.

ACTION: NUREG; issuance.

SUMMARY: The U.S. Nuclear Regulatory Commission (NRC) has issued Revision 3 to NUREG-1556, Volume 9, “Consolidated Guidance About Materials Licenses: Program-Specific Guidance About Medical Use Licenses.” NUREG-1556 Volume 9 has been revised to include information on updated regulatory requirements, safety culture, security of radioactive materials, protection of sensitive information, and changes in regulatory policies and practices consistent with current regulations. This volume is intended for use by applicants, licensees, and the NRC staff.

DATES: NUREG 1556, Volume 9, Revision 3, was published in September 2019.

ADDRESSES: Please refer to Docket ID NRC 2016-0122 (NUREG-1556, Vol. 9, Rev. 3), when contacting the NRC about the availability of information regarding this document. You may obtain publicly-available information related to this document using any of the following methods:

• Federal Rulemaking Website: Go to http://www.regulations.gov and search for Docket ID NRC-2016-0122. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. NUREG-1556, Volumes 9, Revision 3, is located at ADAMS Accession No. ML19256C219. This document is also available on the NRC's public website at http://www.nrc.gov/reading-rm/doc-collections/nuregs/staff/sr1556/ under “Consolidated Guidance About Materials Licenses (NUREG-1556).”

• NRC's PDR: You may examine and purchase copies of public documents at the NRC's PDR, Room O1-F21, One White Flint North, 11555 Rockville Pike, Rockville, Maryland 20852.

FOR FURTHER INFORMATION CONTACT: Dr. Katherine Tapp, Office of Nuclear Material Safety and Safeguards; U.S. Nuclear Regulatory Commission, Washington, DC 20555-0001; telephone: 301-415-0236; email: Katherine.Tapp@nrc.gov.

SUPPLEMENTARY INFORMATION:

I. Discussion

The NRC issued a revision to NUREG-1556, Volumes 9, to provide guidance to existing materials licensees covered under medical use licenses and to applicants preparing an application for a medical use license of byproduct material. This NUREG volume also provides the NRC staff with criteria for evaluating medical use license applications. The purpose of this notice is to notify the public that the NUREG-1556 volume listed in this document was issued as a final report.

II. Additional Information

The NRC published a notice of the availability of the draft report for comment version of NUREG-1556, Volume 9, Revision 3 in the Federal Register on December 6, 2016 (81 FR 87978), with an original public comment period of 63 days. The public comment period was extended for an additional 53 days on January 26, 2017 (82 FR 8545). The public comment period closed on March 31, 2017. Public comments and the NRC staff responses to the public comments for NUREG-1556, Volume 9, Revision 3 are available under ADAMS Accession No. ML18327A102.

III. Congressional Review Act

This NUREG volume is a rule as defined in the Congressional Review Act (5 U.S.C. 801-808). However, the Office of Management and Budget has not found this NUREG revision to be a major rule as defined in the Congressional Review Act.

Dated at Rockville, Maryland, this 21st day of October 2019.
For the Nuclear Regulatory Commission.
Michael C. Layton,
Director, Division of Materials Safety, Security, State and Tribal Programs, Office of Nuclear Material Safety and Safeguards.

[FR Doc. 2019-23316 Filed 10-24-19; 8:45 am]

BILLING CODE 7590-01-P